ENVIRONMENTAL PROTECTION AGENCY

[FRL-6977-4]

Science Advisory Board;Notification of Public Advisory Committee Meetings

Pursuant to the Federal Advisory Committee Act, Public Law 92-463, notice is hereby given several committees/subcommittees of the US EPA Science Advisory Board (SAB) will meet on the dates and times noted below. All times noted are Eastern Standard Time. All meetings are open to the public; however, seating is limited and available on a first come basis. Important Notice: Documents that are the subject of SAB reviews are normally available from the originating EPA office and are not available from the SAB Office—where appropriate, information concerning availability of documents from the relevant Program Office is included below.

1. NATA Review Panel Conference Call—May 14, 2001

It was recently announced in the Federal Register (66 FR 20802, April 25, 2001) that the National-Scale Air Toxics Assessment (NATA) Review Panel (hereafter, “NATA Review Panel”) of the USEPA Science Advisory Board's (SAB) Executive Committee (EC) will conduct a public conference call on Monday, May 14, 2001 from 11 a.m. to 1 p.m. (Eastern Standard Time). The call will be hosted out of the EPA Science Advisory Board Conference Room (Room 6013), Ariel Rios Federal Building, 1200 Pennsylvania Avenue, NW., Washington, DC 20004. Interested members of the public may attend in person or connect to the conference by phone. The original purpose of the call was to provide Panel Members with the opportunity to reach closure on their draft report. The Panel Members conducted a technical editing work session (non-Federal Advisory Committee Act (FACA) meeting) on April 24, 2001(see also 66 FR 9846, February 12, 2001). In the April 24, 2001 meeting, the Panel Members determined that they need more time to continue edits and will not have a public draft report available until after May 14, 2001. They elected to continue the May 14, 2001 conference call as a technical editing work session (non-FACA) meeting, in which the public could listen in, but where no comments would be solicited on the draft report, since it is still in preparation. The NATA Panel then scheduled a public conference call for May 25, 2001 from 10 a.m. to 12 noon, in which public comments could be made. See below for details of the review, to request any supplemental materials from the Agency or ask questions on materials already received from the Agency.

2. EC/NATA Review Panel Conference Call—May 25, 2001

On May 25, 2001, the NATA Review Panel will discuss its draft report in review of the EPA Document entitled “National-Scale Air Toxics Assessment for 1996,” EPA-453/R-01-003, dated January, 2001 and supporting appendices. The conference call will take place from 10 a.m. to 12 noon (Eastern Standard Time). The call will be hosted out of the EPA Science Advisory Board Conference Room (Room 6013), Ariel Rios Federal Building, 1200 Pennsylvania Avenue, NW., Washington, DC 20004. Interested members of the public may attend in person or connect to the conference by phone.

The document being reviewed represents an initial national-scale assessment of the potential health risks associated with inhalation exposures to 32 air toxics identified as priority pollutants by the Agency's Integrated Urban Air Toxics Strategy, plus diesel emissions. More information about the previous meetings can be found in 66 FR 9846, February 12, 2001, and 66 FR 20802, April 25, 2001. The NATA Review Panel is commenting on the charge questions which were outlined in the above FR notice and pertain to appropriateness of the overall approach, including the data, models, and methods used, and the ways these elements have been integrated, as well as to suggest ways to improve these approaches for subsequent national-scale assessments.

Providing Public Comments—We anticipate that the revised public draft of the NATA Report will be available to the public and the Agency on the SAB website (www.epa.sab.gov/sab) approximately one week prior to the May 25th meeting. The NATA Review Panel will accept oral or written public comments at the May 25, 2001 conference call, and is asking participants to focus on three aspects of the SAB NATA Panel's draft report, namely: (1) Has the NATA Review Panel adequately responded to the questions posed in the charge?; (2) Are any statements or responses made in the draft unclear?; and, (3) Are there any technical errors? Oral and written public comments were previously accepted at the March 20-21, 2001 meeting in review of this topic and new comments should be duplicative of these earlier comments.

For Further Information—To obtain information concerning this conference call, please contact Dr. K. Jack Kooyoomjian, Designated Federal Officer (DFO) (see contact information below). To obtain information about how to participate in this conference call, please contact Ms. Betty Fortune (see contact information below). A draft agenda for the teleconference will be posted on the SAB website (www.epa.gov/sab) approximately one week prior to the conference call. The draft report, once it becomes a consensus draft will also be posted on the SAB website. It is anticipated that this will be posted around May 21, 2001.

Availability of Review Materials—All the Agency OAQPS NATA-related review and informational materials, including the NATA Report, the Appendices, all briefing and presentation materials previously provided to the SAB were mentioned in earlier Federal Register notices (see above) and may be obtained on the web at the following URL site: http://www.epa.gov/ttn/uatw/sab/sabrev.html.

Alternately, a copy of the review document (National-Scale Air Toxics Assessment for 1996, EPA-453/R-01-003, dated January, 2001) and supporting appendices can be obtained from Ms. Barbara Miles at U.S. EPA, OAQPS/ESD/REAG (MD-13), Research Triangle Park, NC 27711; telephone (919) 541-5648; facsimile (919) 541-0840; e-mail miles.barbara@epa.gov. Please provide the title and the EPA number for the document, as well as your name and address. The document will be dispensed in CD ROM format unless the requestor requires a paper copy. Internet users may also download a copy from EPA's National Center for Environmental Assessment's (NCEA) website (http://www.epa.gov/nata/).

Following the May 25, 2001 conference call meeting, the NATA Review Panel plans to revise its draft report and forward it to the SAB Executive Committee for final review and approval, prior to transmittal to the Agency. This review will be announced in a subsequent Federal Register notice.

For Further Information—Members of the public desiring additional information about the meeting should contact Dr. K. Jack Kooyoomjian, Designated Federal Officer (DFO), Environmental Models Subcommittee, National-Scale Air Toxics Assessment Review Panel, US EPA Science Advisory Board (1400A), U.S. EPA, 1200 Pennsylvania Avenue, NW., Washington, DC 20460 (FedEx address: US EPA Science Advisory Board, Suite 6450, 1200 Pennsylvania Avenue, NW., Washington, DC 20004); telephone/voice mail at (202) 564-4557; fax at (202) 501-0582; or via e-mail at kooyoomjian.jack@epa.gov. The draft agenda will be available approximately one week prior to the meetings on the SAB website (http://www.epa.gov/sab) or from Ms. Betty Fortune at (202) 564-4534; fax: (202) 501-0582; or e-mail at: fortune.betty@epa.gov.

Providing Public Comments—Members of the public who wish to make a brief oral presentation at the May 25th meeting must contact Dr. Kooyoomjian in writing (by letter, fax, or e-mail—see previously stated information) no later than 12 noon Eastern Time, Friday, May 18, 2001 in order to be included on the Agenda. Written statements will be accepted in the SAB Staff office up until two business days following the meeting (by close of business, May 29, 2001).

3. Ecological Processes and Effects Committee (EPEC)—Teleconference Meeting June 1, 2001

The Ecological Processes and Effects Committee's STAR Water and Watersheds (WW) Review Panel will meet by conference call from 1 to 3 p.m. Eastern time on Friday, June 1, 2001. Members of the public wishing to call-in to the teleconference must make arrangements with Ms. Mary Winston by noon the Tuesday before the meeting. Instructions about how to participate in the conference call can be obtained by calling Ms. Mary Winston, Management Assistant, at (202) 564-4538, or via e-mail at: winston.mary@epa.gov.

Purpose of the Meeting—The purpose of the conference call meeting is to allow the STAR WW Review Panel to complete discussion of the Agency's Science to Achieve Results (STAR) Water and Watersheds Program. The STAR WW Program was the subject of a public meeting of the Committee on April 20, 2001. Additional details on the background and charge for the review of the STAR WW Program were provided in 66 FR 15433-15434, dated March 19, 2001.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For conference call meetings, opportunities for oral comment will usually be limited to no more than three minutes per speaker and no more than fifteen minutes total, unless otherwise stated. Deadlines for getting on the public speaker list for a meeting are given above. Speakers should bring at least 35 copies of their comments and presentation slides for distribution to the reviewers and public at the meeting. Written Comments: Although the SAB accepts written comments until two business days following the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file formats: WordPerfect, Word, or Rich Text files (in IBM-PC/Windows 95/98 format). Those providing written comments and who attend the meeting are also asked to bring 25 copies of their comments for public distribution.

General Information—Additional information concerning the EPA Science Advisory Board, its structure, function, and composition, may be found on our Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact the appropriate DFO at least five business days prior to the meeting so that appropriate arrangements can be made.

Dated: May 7, 2001.
Donald G. Barnes,
Staff Director, Science Advisory Board.

[FR Doc. 01-11914 Filed 5-10-01; 8:45 am]

BILLING CODE 6560-50-P